FEDERAL ELECTION COMMISSION

Sunshine Act Meeting

FEDERAL REGISTER CITATION NOTICE OF PREVIOUS ANNOUNCEMENT: 85 FR 1156.

PREVIOUSLY ANNOUNCED TIME AND DATE OF THE MEETING: Tuesday, January 14, 2020 at 10:00 a.m.

CHANGES IN THE MEETING: This meeting also discussed:

Matters relating to internal personnel decisions, or internal rules and practices.

* * * * *

CONTACT FOR MORE INFORMATION: Judith Ingram, Press Officer, Telephone: (202) 694-1220.

Laura E. Sinram,
Acting Secretary and Clerk of the Commission.

[FR Doc. 2020-00813 Filed 1-15-20; 11:15 am]

BILLING CODE 6715-01-P